DEPARTMENT OF ENERGY

Federal Energy Regulatory Commission

[Docket No. CP16-10-000; Docket No. CP16-13-000]

Mountain Valley Pipeline LLC, Equitrans LP; Notice of Availability of the Draft Environmental Impact Statement for the Proposed Mountain Valley Project and Equitrans Expansion Project

The staff of the Federal Energy Regulatory Commission (FERC or Commission) has prepared a draft environmental impact statement (EIS) for the projects proposed by Mountain Valley Pipeline LLC (Mountain Valley) and Equitrans LP (Equitrans) in the above-referenced dockets. Mountain Valley requests authorization to construct and operate certain interstate natural gas facilities in West Virginia and Virginia, known as the Mountain Valley Project (MVP) in Docket Number CP16-10-000. The MVP is designed to transport about 2 billion cubic feet per day (Bcf/d) of natural gas from production areas in the Appalachian Basin to markets in the Mid-Atlantic and Southeastern United States. Equitrans requests authorization to construct and operate certain natural gas facilities in Pennsylvania and West Virginia, known as the Equitrans Expansion Project (EEP) in Docket No. CP16-13-000. The EEP is designed to transport about 0.4 Bcf/d of natural gas, to improve system flexibility and reliability, and serve markets in the Northeast, Mid-Atlantic, and Southeast, through interconnections with various other interstate systems, including the proposed MVP.

The draft EIS assesses the potential environmental effects of the construction and operation of the MVP and EEP in accordance with the requirements of the National Environmental Policy Act (NEPA). The FERC staff concludes that approval of the MVP and EEP would have some adverse environmental impacts; however, these impacts would be reduced with the implementation of Mountain Valley's and Equitrans' proposed mitigation measures, and the additional measures recommended by the FERC staff in the EIS.

The United States Department of Agriculture Forest Service (FS), U.S. Army Corps of Engineers (COE), U.S. Environmental Protection Agency, U.S. Department of the Interior Bureau of Land Management (BLM), U.S. Department of Transportation, West Virginia Department of Environmental Protection, and West Virginia Division of Natural Resources participated as cooperating agencies in the preparation of the EIS. Cooperating agencies have jurisdiction by law or special expertise with respect to resources potentially affected by the proposals and participated in the NEPA analysis. The BLM, COE, and FS may adopt and use the EIS when they consider the issuance of a Right-of-Way Grant to Mountain Valley for the portion of the MVP that would cross federal lands. Further, the FS may use the EIS when it considers amendments to its Land and Resource Management Plan (LRMP) for the proposed crossing of the Jefferson National Forest. Although the cooperating agencies provided input to the conclusions and recommendations presented in the draft EIS, the agencies will present their own conclusions and recommendations in their respective permit authorizations and Records of Decision (ROD) for the projects.

Proposed Facilities

The draft EIS addresses the potential environmental effects of the construction and operation of the proposed facilities. For the MVP, facilities include:

• About 301 miles of new 42-inch-diameter pipeline extending from the new Mobley Interconnect in Wetzel County, West Virginia to the existing Transcontinental Gas Pipe Line Company LLC (Transco) Station 165 in Pittsylvania County, Virginia;

• 3 new compressor stations (Bradshaw, Harris, Stallworth) in West Virginia, totaling about 171,600 horsepower (hp);

• 4 new meter and regulation stations and interconnections (Mobley, Sherwood, WB, and Transco);

• 2 new taps (Webster and Roanoke);

• 5 pig ¹ launchers and receivers; and

¹ A “pig” is a device used to clean or inspect the interior of a pipeline.

• 36 mainline block valves.

For the EEP, facilities include:

• About 8 miles total of new various diameter pipelines in six segments;

• new Redhook Compressor Station, in Greene County, Pennsylvania, with 31,300 hp of compression;

• 4 new taps (Mobley, H-148, H-302, H-306) and 1 new interconnection (Webster);

• 4 pig launchers and receivers; and

• decommissioning and abandonment of the existing 4,800 hp Pratt Compressor Station in Greene County, Pennsylvania.

Actions of the Bureau of Land Management and the Forest Service

The BLM's purpose and need for the proposed action is to respond to a Right-of-Way Grant application submitted by Mountain Valley on April 5, 2016. Under the Mineral Leasing Act of 1920 the Secretary of the Interior has delegated authority to the BLM to grant a right-of-way in response to the Mountain Valley application for natural gas transmission on federal lands under the jurisdiction of two or more federal agencies. Before issuing the Right-of-Way Grant, the BLM must receive the written concurrence of the other surface managing federal agencies (i.e., FS and COE) in accordance with Title 43 Code of Federal Regulations (CFR) Part 2882.3(i). Through this concurrence process, the FS and COE would submit to the BLM any specific stipulations applicable to their lands, facilities, waterbodies, and easements for inclusion in the Right-of-Way Grant.

The FS's purpose and need for the proposed action is to consider issuing a concurrence to the BLM for the Right-of-Way Grant and to evaluate the amendments to the LRMP for the Jefferson National Forest that would make provision for the MVP pipeline if the FS decides to concur and BLM decides to issue a Right-of-Way Grant.

The first type of LRMP amendment would be a “plan-level amendment” that would change land allocations. This would change future management direction for the lands reallocated to the new management prescription (Rx) and is required by LRMP Standard FW-248.

Proposed Amendment 1: The LRMP would be amended to reallocate 186 acres to the Management Prescription 5C—Designated Utility Corridors from these Rxs: 4J—Urban/Suburban Interface (56 acres); 6C—Old Growth Forest Communities-Disturbance Associated (19 ac); and 8A1—Mix of Successional Habitats in Forested Landscapes (111 acres).

Rx 5C—Designated Utility Corridors contain special uses which serve a public benefit by providing a reliable supply of electricity, natural gas, or water essential to local, regional, and national economies. The new Rx 5C land allocation would be 500 feet wide (250 feet wide on each side of the pipeline), with two exceptions: (1) The area where the pipeline crosses Rx 4A—Appalachian National Scenic Trail Corridor would remain in Rx 4A; and (2) the new 5C area would not cross into Peters Mountain Wilderness so the Rx 5C area would be less than 500 feet wide along the boundary of the Wilderness.

The second type of amendment would be a “project-specific amendment” that would apply only to the construction and operation of this pipeline. The following amendments would grant a temporary `waiver' to allow the project to proceed. These amendments would not change LRMP requirements for other projects or authorize any other actions.

Proposed Amendment 2: The LRMP would be amended to allow construction of the MVP pipeline to exceed restrictions on soil conditions and riparian corridor conditions as described in LRMP standards FW-5, FW-9, FW-13, FW-14 and 11-017, provided that mitigation measures or project requirements agreed upon by the Forest Service are implemented as needed.

Proposed Amendment 3: The LRMP would be amended to allow the removal of old growth trees within the construction corridor of the MVP pipeline. (reference LRMP Standard FW-77)

Proposed Amendment 4: The LRMP would be amended to allow the MVP pipeline to cross the Appalachian National Scenic Trail (ANST) on Peters Mountain. The Scenic Integrity Objective (SIO) for the Rx 4A area and the ANST will be changed from High to Moderate. This amendment also requires the SIO of Moderate to be achieved within five to ten years following completion of the project to allow for vegetation growth. (reference LRMP Standards 4A-021 and 4A-028).

The decision for a Right-of-Way Grant across federal lands would be documented in a ROD issued by the BLM. The BLM's decision to issue, condition, or deny a right-of-way would be subject to BLM administrative review procedures established in 43 CFR 2881.10 and Section 313(b) of the Energy Policy Act. The FS concurrence to BLM to issue the Right-of-Way Grant would not be a decision subject to NEPA, and therefore would not be subject to FS administrative review procedures. The FS would issue its own ROD for the LRMP amendments. The Forest Supervisor for the Jefferson National Forest would be the Responsible Official for the LRMP amendments. Proposed Amendment 1 was developed in accordance to 36 CFR 219 (2012 version) regulations and would be subject to the administrative review procedures under 36 CFR 219 Subpart B. Proposed Amendments 2, 3 and 4 were developed in accordance to 36 CFR 219 (2012) regulations but would be subject to the administrative review procedures under 36 CFR 218 regulations Subparts A and B, per 36 CFR 219.59(b).

The BLM is requesting public comments on the issuance of a Right-of-Way Grant that would allow the MVP pipeline to be constructed on federal lands managed by the FS and COE. The FS is requesting public comments on the consideration of submitting a concurrence to BLM and the draft amendments of the LRMP to allow the MVP pipeline to cross the Jefferson National Forest. All comments must be submitted to the FERC, the lead federal agency, within the timeframe stated in this Notice of Availability. Refer to Docket CP16-10-000 (MVP) in all correspondence to ensure that your comments are correctly filed in the record. You may submit comments to the FERC using one of the four methods listed below in this notice. Before including your address, phone number, email address, or other personal identifying information in your comments, you should be aware that the entire text of your comments—including your personal identifying information—would be publicly available through the FERC eLibrary system, if you file your comments with the Secretary of the Commission.

Distribution and Comments on the Draft Environmental Impact Statement

The FERC staff mailed copies of the draft EIS to federal, state, and local government representatives and agencies; elected officials; regional environmental groups and non-governmental organizations; potentially interested Native Americans and Indian tribes; affected landowners; local newspapers and libraries; parties to this proceeding; and members of the public who submitted comments about the projects. Paper copy versions of this draft EIS were mailed to those specifically requesting them; all others received a compact-disc version. In addition, the draft EIS is available for public viewing on the FERC's Web site (www.ferc.gov).² A limited number of copies are available for distribution and public inspection at: Federal Energy Regulatory Commission, Public Reference Room, 888 First Street NE., Room 2A, Washington, DC 20426, (202) 502-8371.

² Go to “Documents & Filings,” click on “eLibrary,” use “General Search” and put in the Docket numbers (CP16-10 or CP16-13) and date of issuance (09/16/16).

Any person wishing to comment on the draft EIS may do so. To ensure consideration of your comments on the proposal in the final EIS, it is important that the Commission receive your comments on or before December 22, 2016.

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents & Filings. This is an easy method for submitting brief, text-only comments on a project;

(2) You can file your comments electronically by using the eFiling feature on the Commission's Web site (www.ferc.gov) under the link to Documents & Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP16-10-000 or CP16-13-000) with your submission: Kimberly D. Bose, Secretary, Federal Energy Regulatory Commission, 888 First Street NE., Room 1A, Washington, DC 20426.

(4) In lieu of sending written or electronic comments, the Commission invites you to attend one of the public sessions its staff will conduct in the project area to receive verbal comments on the draft EIS. To ensure that interested parties have ample opportunity to attend, the FERC staff has arranged for seven public sessions, at venues spaced a reasonable driving distance apart, and scheduled as listed below.

There will not be a formal presentation by Commission staff at any of the seven public comment sessions, although a format outline handout will be made available. All public sessions will begin at 5:00 p.m. Eastern time. If you wish to provide verbal comments, the Commission staff will hand out numbers in the order of your arrival, and will discontinue handing them out at 8:00 p.m. Comments will be taken until 10:00 p.m. However, if no additional numbers have been handed out and all individuals who wish to provide comments have had an opportunity to do so, staff may conclude the session at 8:00 p.m.

The primary goal of the public sessions is to allow individuals to provide verbal comments on the draft EIS. Individual verbal comments will be taken on a one-on-one basis with a stenographer (with FERC staff or representative present), called up in the order of the numbers received. Because we anticipate considerable interest from concerned citizens, this format is designed to receive the maximum amount of verbal comments, in a convenient way during the timeframe allotted. If many people are interested in providing verbal comments in the one-on-one setting at any particular session, a time limit of 3 minutes may be implemented for each commenter.

Your verbal comments will be recorded by the stenographer. Transcripts of all comments from the sessions will be placed into the dockets for the projects, which are accessible for public viewing on the FERC's Web site (at www.ferc.gov) through our eLibrary system.

FERC Sponsored Public Sessions in the Project Area To Take Comments on the Draft EIS
Date | Location ᵃ
Tuesday, November 1, 2016 | Chatham High School, 100 Cavalier Circle, Chatham, VA 24531, 434-432-8305.
Tuesday, November 1, 2016 | Lewis County High School, 205 Minuteman Drive, Weston, WV 26452, 304-269-8315.
Wednesday, November 2, 2016 | Franklin County High School, 700 Taynard Road, Rocky Mount, VA 24151, 540-483-0221.
Wednesday, November 2, 2016 | Nicholas County High School, 30 Grizzly Road, Summersville, WV 26651, 304-872-2141.
Thursday, November 3, 2016 | Sheraton Hotel, 2801 Hershberger Road, Roanoke, VA 24017, 540-563-9300.
Thursday, November 3, 2016 | Peterstown Elementary School, 108 College Drive, Peterstown, WV 24963, 304-753-4328.
Wednesday, November 9, 2016 | California Area High School, 11 Trojan Way, Coal Center, PA 15423, 724-785-5800.
ᵃ While we have agreements with the venues, contracts have not yet been finalized with the individual Boards of Education. If a School Board declines to sign the contract, the venue may change and the FERC would issue a revised notice to announce the replacement venue.

Commission staff will be available at each venue of the public sessions to answer questions about our environmental review process. It is important to note that written comments mailed to the Commission and those submitted electronically are reviewed by staff with the same scrutiny and consideration as the verbal comments given at the public sessions.

Any person seeking to become a party to the proceeding must file a motion to intervene pursuant to Rule 214 of the Commission's Rules of Practice and Procedures (18 CFR part 385.214).³ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

³ See the previous discussion on the methods for filing comments.

Questions?

Additional information about the projects is available from the Commission's Office of External Affairs, at (866) 208-FERC, or on the FERC Web site (www.ferc.gov). The eLibrary link provides access to all documents filed in a docket, in addition to the texts of formal documents issued by the Commission, such as orders, notices, and rulemakings. Go to “Documents & Filings,” click on the eLibrary link, click on “General Search,” and enter the docket number excluding the last three digits in the field (i.e., CP16-10). Be sure you have selected an appropriate date range. For assistance, please contact FERC Online Support at FercOnlineSupport@ferc.gov or toll free at (866) 208-3676; for TTY, contact (202) 502-8659.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: September 16, 2016.
Kimberly D. Bose,
Secretary.

[FR Doc. 2016-23237 Filed 9-26-16; 8:45 am]

BILLING CODE 6717-01-P